Title 3—

The President

Proclamation 10577 of May 12, 2023

National Defense Transportation Day and National Transportation Week, 2023

By the President of the United States of America

A Proclamation

To have the world's strongest military and leading economy, the United States must have the world's best transportation system. And to achieve that, we must prepare and equip the world's best workforce to build it. Today and this week, we celebrate the American workers who build our infrastructure, power our economy, bolster our national security, and are the backbone of this Nation. We also recommit to investing in our Nation's infrastructure and strengthening critical supply chains.

National Defense Transportation Day dates back to 1957, a year after President Dwight D. Eisenhower signed the landmark Federal-Aid Highway Act. This law helped build America's interstate highway system, which is critical to our national security. In the years since, we have seen how modern transportation makes it possible to deploy service members quickly and to ship defense supplies and equipment efficiently. It also means first responders can act fast when a crisis occurs.

The interstate highway system also proved vital to our national prosperity—connecting small towns with big cities, allowing goods to ship to all corners of the country and world, and turning our infrastructure into the envy of the globe. But gradually, we stopped investing in our infrastructure. As we allowed the quality of our roads, bridges, ports, and railways to deteriorate, so too did the reliability of America's transportation system.

I took office determined to change that. I signed the Bipartisan Infrastructure Law—a once-in-a-generation investment in rebuilding America and putting Americans across the country to work doing it. It is the most significant investment in our infrastructure since President Eisenhower. To date, we have already funded more than 25,000 projects—upgrading roads, bridges, and tunnels from California to Ohio to New York; renovating major airports from Massachusetts to Georgia to Oregon; and upgrading our rail infrastructure on the Northeast Corridor, bringing world-class rail to new corners of the country. We are also paving new highways so trucks filled with goods can get to their destinations faster and deepening channels so ships can move in and out of harbors more efficiently.

Additionally, the Bipartisan Infrastructure Law is the largest investment in public transit in the history of our country. It improves subways and commuter rail in some of the busiest travel corridors in America, easing traffic congestion and making it easier for people to get where they need to go. Thanks to this law, we will replace thousands of diesel school buses with electric buses so our kids do not have to inhale diesel exhaust fumes, which can make them sick. And we are helping local governments retrofit subway stations so people who need an elevator or ramp can reliably access our rail systems. All told, these actions will improve transit for millions of Americans while reducing emissions.

These investments are part of our mission to build a clean energy future. As part of that effort, we are creating a national network of electric vehicle charging stations across America. In time, finding a place to charge your electric vehicle will be as easy as pulling into a gas station. And our Inflation Reduction Act, the largest investment ever made to tackle climate change, is providing incentives for companies to electrify heavy-duty vehicles and for consumers to buy electric cars and fuel cell vehicles.

As we improve our transportation system, we must make good on our promise that the workers who are designing, building, and maintaining it are seeing the benefits. Many of these new jobs in construction, trucking, and the railroad industry will be union jobs with good pay and good benefits, providing the breathing room American families deserve. We are also investing in workforce development; expanding Registered Apprenticeships and pre-apprenticeship programs; and spurring commitments from employers, unions, and community-based organizations to invest in training and apprenticeships. And we worked hand in hand with the trucking industry to improve safety and job quality through the Biden Trucking Action Plan.

Finally, we are working to rectify our Nation's past mistakes when it comes to where and how we build new infrastructure. Nearly six decades ago, the expansion of the interstate highway system routed many highways directly through Black and brown communities, destroying entire neighborhoods or cutting them off from economic opportunity. In response, my Administration launched the Reconnecting Communities Pilot Program—the first-ever Federal initiative to cap highways and add green spaces in an effort to unify neighborhoods that had been divided. Our goal is to ensure that our investments reach places that have historically been forgotten, opening doors of opportunity and strengthening communities as cranes go up and shovels dig into the ground.

On this National Defense Transportation Day and throughout National Transportation Week, I am proud to say that we are embarking on an infrastructure decade. Our investments to create the world's best and safest roads, bridges, railroads, ports, airports, and more will make our economy and country stronger. And by empowering America's workers—who in turn power our national prosperity—we will continue to build an economy from the middle out and bottom up, not the top down. That is America at its best—reinventing, rebuilding, and reimagining a future of boundless possibilities.

In recognition of the ongoing contributions of our Nation's transportation system and in honor of the devoted professionals who work to sustain its tradition of excellence, the United States Congress has requested, by joint resolution approved May 16, 1957, as amended (36 U.S.C. 120), that the President designate the third Friday in May of each year as “National Defense Transportation Day” and, by joint resolution approved May 14, 1962 (36 U.S.C. 133), that the week in which that Friday falls be designated as “National Transportation Week.”

NOW, THEREFORE, I, JOSEPH R. BIDEN JR., President of the United States of America, do hereby proclaim Friday, May 19, 2023, as National Defense Transportation Day; and May 14 through May 20, 2023, as National Transportation Week. I urge all Americans to observe these occasions with appropriate ceremonies, programs, and activities as we show our appreciation to those who build and operate our Nation's transportation systems.

IN WITNESS WHEREOF, I have hereunto set my hand this twelfth day of May, in the year of our Lord two thousand twenty-three, and of the Independence of the United States of America the two hundred and forty-seventh.

[FR Doc. 2023-10658

Filed 5-16-23; 8:45 am]

Billing code 3395-F3-P